DEPARTMENT OF ENERGY

Federal Energy Regulatory Commission

Combined Notice of Filings

Take notice that the Commission has received the following Natural Gas Pipeline Rate and Refund Report filings:

Filings Instituting Proceedings

Docket Number: PR22-20-000.

Applicants: Columbia Gas of Maryland, Inc.

Description: Submits tariff filing per 284.123(b),(e)/: CMD SOC Rates effective Dec 3 2021 to be effective 12/3/2021.

Filed Date: 1/31/2022.

Accession Number: 20220131-5066.

Comments/Protests Due: 5 p.m. ET 2/22/22.

Docket Number: PR22-21-000.

Applicants: NorthWestern Corporation.

Description: Submits tariff filing per 284.123(b),€/: Revised Transportation and Storage Rates (Annual Tax Tracker) to be effective 1/1/2022.

Filed Date: 1/31/2022.

Accession Number: 20220131-5070.

Comments/Protests Due: 5 p.m. ET 2/22/22.

Docket Number: PR22-22-000.

Applicants: Public Service Company of Colorado.

Description: Submits tariff filing per 284.123(b),(e)+(g): 2022 Statement of Rates—Eff. 1.1.22 to be effective 1/1/2022.

Filed Date: 1/31/2022.

Accession Number: 20220131-5168.

Comments/Protests Due: 5 p.m. ET 2/22/22.

284.123(g) Protests Due: 5 p.m. ET 4/1/22.

Docket Numbers: RP22-498-000.

Applicants: Transwestern Pipeline Company, LLC.

Description: Transwestern Pipeline Company, LLC submits tariff filing per 154.203: Alert Day Penalty Report on 1-26-2022 to be effective N/A.

Filed Date: 1/26/22.

Accession Number: 20220126-5230.

Comment Date: 5 p.m. ET 2/7/22.

Docket Numbers: RP22-507-000.

Applicants: Florida Gas Transmission Company, LLC.

Description: § 4(d) Rate Filing: Negotiated Rates Filing on 1-28-2022 to be effective 2/1/2022.

Filed Date: 1/28/22.

Accession Number: 20220128-5262.

Comment Date: 5 p.m. ET 2/9/22.

Docket Numbers: RP22-508-000.

Applicants: Ruby Pipeline, L.L.C.

Description: § 4(d) Rate Filing: Non-Conforming Negotiated Rate Amendments (PG&E) to be effective 3/1/2022.

Filed Date: 1/28/22.

Accession Number: 20220128-5393.

Comment Date: 5 p.m. ET 2/9/22.

Docket Numbers: RP22-509-000.

Applicants: El Paso Natural Gas Company, L.L.C.

Description: § 4(d) Rate Filing: Negotiated Rate Agreement Filing (Calpine) to be effective 2/1/2022.

Filed Date: 1/31/22.

Accession Number: 20220131-5119.

Comment Date: 5 p.m. ET 2/14/22.

Docket Numbers: RP22-510-000.

Applicants: Gulf South Pipeline Company, LLC.

Description: § 4(d) Rate Filing: Cap Rel Neg Rate Agmt (Constellation 54756 to Exelon 54784) to be effective 2/1/2022.

Filed Date: 1/31/22.

Accession Number: 20220131-5199.

Comment Date: 5 p.m. ET 2/14/22.

Docket Numbers: RP22-511-000.

Applicants: Northern Natural Gas Company.

Description: § 4(d) Rate Filing: 20220131 Negotiated Rate to be effective 2/1/2022.

Filed Date: 1/31/22.

Accession Number: 20220131-5206.

Comment Date: 5 p.m. ET 2/14/22.

Docket Numbers: RP22-512-000.

Applicants: Kinder Morgan Louisiana Pipeline LLC.

Description: Compliance filing: 2021 Penalty to be effective N/A.

Filed Date: 1/31/22.

Accession Number: 20220131-5220.

Comment Date: 5 p.m. ET 2/14/22.

Docket Numbers: RP22-513-000.

Applicants: Kinder Morgan Illinois Pipeline LLC.

Description: Compliance filing: 2021 Penalty to be effective N/A.

Filed Date: 1/31/22.

Accession Number: 20220131-5221.

Comment Date: 5 p.m. ET 2/14/22.

Docket Numbers: RP22-514-000.

Applicants: MoGas Pipeline LLC.

Description: § 4(d) Rate Filing: MoGas Pipeline LLC Negotiated Rate Tariff Filing to be effective 3/1/2022.

Filed Date: 1/31/22.

Accession Number: 20220131-5260.

Comment Date: 5 p.m. ET 2/14/22.

Docket Numbers: RP22-515-000.

Applicants: Transcontinental Gas Pipe Line Company, LLC.

Description: § 4(d) Rate Filing: Negotiated Rates—Cherokee AGL—Replacement Shippers—Feb 2022 to be effective 2/1/2022.

Filed Date: 1/31/22.

Accession Number: 20220131-5283.

Comment Date: 5 p.m. ET 2/14/22.

Docket Numbers: RP22-516-000.

Applicants: NEXUS Gas Transmission, LLC.

Description: § 4(d) Rate Filing: Negotiated Rates—Releases eff 2-1-22 to be effective 2/1/2022.

Filed Date: 1/31/22.

Accession Number: 20220131-5285.

Comment Date: 5 p.m. ET 2/14/22.

Docket Numbers: RP22-517-000.

Applicants: Columbia Gas Transmission, LLC.

Description: § 4(d) Rate Filing: Antero Neg Rate Amendment to be effective 2/1/2022.

Filed Date: 1/31/22.

Accession Number: 20220131-5319.

Comment Date: 5 p.m. ET 2/14/22.

Docket Numbers: RP22-518-000.

Applicants: LA Storage, LLC.

Description: § 4(d) Rate Filing: Filing of Negotiated Rate, Conforming IW Agreement (TMV) to be effective 2/1/2022.

Filed Date: 1/31/22.

Accession Number: 20220131-5339.

Comment Date: 5 p.m. ET 2/14/22.

Docket Numbers: RP22-519-000.

Applicants: Rockies Express Pipeline LLC.

Description: § 4(d) Rate Filing: REX 2022-01-31 Negotiated Rate Agreements to be effective 2/1/2022.

Filed Date: 1/31/22.

Accession Number: 20220131-5381.

Comment Date: 5 p.m. ET 2/14/22.

Docket Numbers: RP22-520-000.

Applicants: Trailblazer Pipeline Company LLC.

Description: § 4(d) Rate Filing: TPC 2022-01-31 Negotiated Rate Agreement to be effective 2/1/2022.

Filed Date: 1/31/22.

Accession Number: 20220131-5388.

Comment Date: 5 p.m. ET 2/14/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 1, 2022.
Debbie-Anne A. Reese,
Deputy Secretary.

[FR Doc. 2022-02540 Filed 2-7-22; 8:45 am]

BILLING CODE 6717-01-P